DEPARTMENT OF HOUSING AND URBAN DEVELOPMENT

[Docket No. FR-5880-N-01]

Notice of Extension of Time for Completion of Manufacturer Notification and Correction Plan

AGENCY: Office of the Assistant Secretary for Housing—Federal Housing Commissioner, Department of Housing and Urban Development (HUD).

ACTION: Notice of extension of time.

SUMMARY: This notice advises the public that HUD received a request from Clayton Homes, Inc. (Clayton) for an extension of time to fully implement its plan to notify purchasers and correct certain manufactured homes that were installed with TruVent plastic range hood exhaust ducts, an item that Clayton agreed to recall after a HUD audit questioned whether the duct complied with HUD's Manufactured Home Construction and Safety Standards. The recall includes homes built by the following Clayton manufacturing subsidiaries: CMH Manufacturing, Inc.; CMH Manufacturing West, Inc.; Southern Energy Homes, Inc.; Giles Industries, Inc.; and Cavalier Homes, Inc. Clayton initiated the recall on April 6, 2015, and requested additional time to continue to complete repairs on affected homes on May 30, 2015. After reviewing Clayton's request, HUD determined that Clayton has shown good cause and granted its request for an extension. The requested extension is granted until August 3, 2015.

DATES: Effective Date: June 4, 2015.

FOR FURTHER INFORMATION CONTACT: Pamela Beck Danner, Administrator and Designated Federal Official (DFO), Office of Manufactured Housing Programs, Department of Housing and Urban Development, 451 Seventh Street SW., Room 9166, Washington, DC 20410, telephone 202-708-6423 (this is not a toll-free number). Persons who have difficulty hearing or speaking may access this number via TTY by calling the toll-free Federal Information Relay Service at 800-877-8339.

SUPPLEMENTARY INFORMATION: The National Manufactured Housing Construction and Safety Standards Act of 1974 (42 U.S.C. 5401-5426) (the Act) authorizes HUD to establish the Federal Manufactured Home Construction and Safety Standards (Construction and Safety Standards), codified in 24 CFR part 3280. Section 615 of the Act (42 U.S.C. 5414) requires that manufacturers of manufactured homes notify purchasers if the manufacturer determines, in good faith, that a defect exists or is likely to exist in more than one home manufactured by the manufacturer and the defect relates to the Construction and Safety Standards or constitutes an imminent safety hazard to the purchaser of the manufactured home. The notification shall also inform purchasers whether the defect is one that the manufacturer will have corrected at no cost or is one that must be corrected at the expense of the purchaser/owner. The manufacturer is responsible to notify purchasers of the defect within a reasonable time after discovering the defect.

HUD's procedural and enforcement provisions at 24 CFR part 3282, subpart I (Subpart I), implement these notification and correction requirements. If a manufacturer determines that it is responsible for providing notification under § 3282.405 and correction under § 3282.406, the manufacturer must prepare a plan for notifying purchasers of the homes containing the defect pursuant to §§ 3282.408 and 3282.409. Notification of purchasers must be accomplished by certified mail or other more expeditious means that provides a receipt. Notification must be provided to each retailer or distributor to whom any manufactured home in the class of homes containing the defect was delivered, to the first purchaser of each manufactured home in the class of manufactured homes containing the defect, and to other persons who are registered owners of a manufactured home in the class of homes containing the defect. The manufacturer must complete the implementation of the plan for notification and correction on or before the deadline approved by the State Administrative Agency or the Department. Under § 3282.410(c), the manufacturer may request an extension of the deadline if it shows good cause for the extension and the Secretary decides that the extension is justified and not contrary to the public interest. If the request for extension is approved, § 3282.410(c) requires that the Department publish notice of the extension in the Federal Register.

During a HUD audit of the CMH Manufacturing Savannah, TN facility, the use of TruVent plastic expanding vent pipes for the range hood exhaust was questioned as not being in compliance with § 3280.710(e) of HUD's Construction and Safety Standards. On April 6, 2015, after reviewing the matter, Clayton agreed to begin a recall of homes sold with the plastic expanding vent pipes and repair the homes by installing new metal ducts. On May 30, 2015, Clayton requested an extension of time to complete the correction process. In its request, Clayton stated of the 745 homes affected by the recall, it had completed repairs on 428 homes. Clayton also stated that four of the sixteen facilities affected by the recall have completed their repairs and that the others are very close to completing their repairs as well. With its request, Clayton submitted an update on the implementation on its plan of notification and correction.

This notice advises the public that the Department finds that Clayton has shown good cause and that the extension is justified and not contrary to the public interest and, therefore, has granted the requested extension until August 3, 2015, to permit Clayton to continue its good faith efforts to continue repairs on the remaining 317 homes affected by this recall.

Dated: June 9, 2015.
Pamela Beck Danner,
Administrator, Office of Manufactured Housing Programs.

[FR Doc. 2015-14510 Filed 6-12-15; 8:45 am]

BILLING CODE 4210-67-P